DEPARTMENT OF TRANSPORTATION

National Highway Traffic Safety Administration

RIN 2127-AI23

Reports, Forms and Record Keeping Requirements; Agency Information Collection Activity Under OMB Review

AGENCY: National Highway Traffic Safety Administration, DOT.

ACTION: Correction; extension of comment period.

SUMMARY: On June 4, 2001, we published a Notice reporting that we had submitted to OMB a request for an extension of a previously approved collection of information. That Notice is contained within document 01-13798 and is located at 66 FR 30046. The approved collection of information pertained to a statutorily-mandated rule requiring that any person who knowingly and willfully sells or leases a defective or noncompliant tire for use on a motor vehicle, with actual knowledge that the manufacturer of the tire has notified its dealers of the defect or noncompliance, report that sale or lease to us.

The Notice published on June 4, 2001, contained several errors, which we believe require correction. The purpose of today's Notice is to notify the public of the errors and the correct information, and provide the public an additional thirty (30) days within which to submit any comments in relation to the collection of information and the requested extension. Specifically, the June 4, 2001 Notice is modified in the following ways:

Under the section labeled SUPPLEMENTARY INFORMATION, the text of the subsection labeled “Type of Request” should be changed to read: Extension of a currently approved collection for three years from the approval date.

In the same SUPPLEMENTARY INFORMATION section, the text of the subsection labeled “Abstract,” should be replaced with the following text:

This information collection is statutorily mandated. NHTSA anticipates using the information collected to inform purchasers of those defective or noncompliant tires of the existence of the defect or noncompliance, to investigate sales and leases of tires that are defective or noncompliant, and/or facilitate the providing of a remedy to the purchasers of such tires. Respondents are expected to be tire dealers and retailers.

The text of the subsection labeled “Affected Public” located within the SUPPLEMENTARY INFORMATION portion of the Notice, should be replaced with the following text:

Any person who knowingly and willfully sells or leases a defective or noncompliant tire for use on a motor vehicle with actual knowledge that the manufacturer of the tire has notified dealers of the defect or noncompliance. Persons who sell or lease new or used motor vehicles equipped with defective or noncompliant tires are not subject to this reporting requirement with respect to vehicle sales. Motor vehicle lessors and rental companies are also excluded.

In light of the above changes, the comment period with respect to this action has been extended for an additional 30 days. Accordingly, all comments must be submitted on or before August 6, 2001. As requested in the June 4, 2001 notice, comments must be submitted to the Office of Information and Regulatory Affairs, Office of Management and Budget, 725 17th Street, NW., Washington, DC 20503, Attention NHTSA Desk Officer.

Issued on: June 28, 2001.
Kenneth N. Weinstein,
Associate Administrator for Safety Assurance.

[FR Doc. 01-16780 Filed 7-3-01; 8:45 am]

BILLING CODE 4910-59-P